DEPARTMENT OF TRANSPORTATION

Federal Aviation Administration

14 CFR Part 39

[Docket No. 2003-NM-217-AD]

RIN 2120-AA64

Airworthiness Directives; Boeing Model 747-400 and -400D Series Airplanes

AGENCY: Federal Aviation Administration, DOT.

ACTION: Notice of proposed rulemaking (NPRM).

SUMMARY: This document proposes the supersedure of an existing airworthiness directive (AD), applicable to certain Boeing Model 747-400 and -400D series airplanes, that currently requires installation of strap assemblies on the ceiling panels and rails that support the video monitors. For certain airplanes, this action would require replacement of certain plate assemblies within the ceiling panel strap assemblies with new, improved plate assemblies. This action would also revise the applicability by adding airplanes. The actions specified by the proposed AD are intended to prevent ceiling panels from falling into the passenger cabin area in the event of failure of certain latch assemblies on the ceiling panels, which could result in consequent injury to the flightcrew and passengers. This action is intended to address the identified unsafe condition.

DATES: Comments must be received by August 9, 2004.

ADDRESSES: Submit comments in triplicate to the Federal Aviation Administration (FAA), Transport Airplane Directorate, ANM-114, Attention: Rules Docket No. 2003-NM-217-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2003-NM-217-AD” in the subject line and need not be submitted in triplicate. Comments sent via the Internet as attached electronic files must be formatted in Microsoft Word 97 or 2000 or ASCII text.

The service information referenced in the proposed rule may be obtained from Boeing Commercial Airplanes, PO Box 3707, Seattle, Washington 98124-2207. This information may be examined at the FAA, Transport Airplane Directorate, 1601 Lind Avenue, SW., Renton, Washington.

FOR FURTHER INFORMATION CONTACT: Patrick Gillespie, Aerospace Engineer, Cabin Safety Branch, ANM-150S, FAA, Transport Airplane Directorate; telephone (425) 917-6429; fax (425) 917-6590.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2003-NM-217-AD.” The postcard will be date stamped and returned to the commenter.

Availability of NPRMs

Any person may obtain a copy of this NPRM by submitting a request to the FAA, Transport Airplane Directorate, ANM-114, Attention: Rules Docket No. 2003-NM-217-AD, 1601 Lind Avenue, SW., Renton, Washington 98055-4056.

Discussion

On August 23, 1999, the FAA issued AD 99-18-07, amendment 39-11273 (64 FR 47372, August 31, 1999), applicable to certain Boeing Model 747-400 series airplanes, to require installation of strap assemblies on the ceiling panels and rails that support the video monitors. That action was prompted by reports of the video monitor ceiling panels falling into the passenger cabin area due to the failure of certain latch assemblies during turbulence. The requirements of that AD are intended to prevent ceiling panels from falling into the passenger cabin area in the event of failure of certain latch assemblies on the ceiling panels, which could result in consequent injury to the flightcrew and passengers.

Actions Since Issuance of Previous Rule

Since the issuance of that AD, testing by the manufacturer revealed that even after operators accomplished the actions described in the original release and Revision 1 of Boeing Alert Service Bulletin 747-25A3142 certain ceiling panels could still fall into the passenger cabin. Therefore, the manufacturer issued Revisions 2 and 3 of the service bulletin. These revisions also expand the effectivity of the service bulletin to include Boeing Model 747-400D series airplanes. Revision 3 of the service bulletin is the appropriate source of service information for accomplishment of the actions proposed in this AD.

Explanation of Relevant Service Information

The FAA has reviewed and approved Boeing Alert Service Bulletin 747-25A3142, Revision 3, dated August 14, 2003, which describes procedures for installing strap assemblies on the ceiling panels that support the video monitors. For certain airplanes, the service bulletin describes procedures for replacing plate assemblies having a certain part number with new, improved plate assemblies. The service bulletin also expands the effectivity to include airplanes that had certain plate assemblies installed in production.

The strap assembly installation procedures include removing the ceiling panels forward and aft of the ceiling panel to be modified, removing the video monitor, installing the strap assembly on the ceiling panel and adjacent support rail, reidentifying the modified ceiling panel with a new part number, and reinstalling the video monitor and ceiling panels. The procedures for replacing the plate assembly include removing the ceiling panels forward and aft of the ceiling panel with the strap assembly; removing the video monitor; removing the strap assembly from the ceiling panel and adjacent support rail; replacing the plate assembly; and reinstalling the strap assembly, video monitor, and ceiling panels.

Accomplishment of the actions specified in the service bulletin is intended to adequately address the identified unsafe condition.

Explanation of Requirements of Proposed AD

Since an unsafe condition has been identified that is likely to exist or develop on other products of this same type design, the proposed AD would supersede AD 99-18-07 to continue to require installation of strap assemblies on the ceiling panels and rails that support the video monitors and, for certain airplanes, to require replacement of certain plate assemblies within the ceiling strap assemblies with new, improved plate assemblies. The actions would be required to be accomplished in accordance with the service bulletin previously described, except as discussed below.

Differences Between Proposed Rule and Alert Service Bulletin

Operators should note that, although the alert service bulletin recommends installing the subject strap and plate assemblies at the first maintenance opportunity, the FAA has determined that an unspecified interval would not address the identified unsafe condition in a timely manner. In developing an appropriate compliance time for this AD, the FAA considered not only the manufacturer's recommendation, but the degree of urgency associated with addressing the subject unsafe condition, the average utilization of the affected fleet, and the time necessary to perform the installation. In light of all of these factors, the FAA finds a 24-month compliance time for completing the required actions to be warranted, in that it represents an appropriate interval of time allowable for affected airplanes to continue to operate without compromising safety.

Change to Labor Rate Estimate

We have reviewed the figures we have used over the past several years to calculate AD costs to operators. To account for various inflationary costs in the airline industry, we find it necessary to increase the labor rate used in these calculations from $60 per work hour to $65 per work hour. The cost impact information, below, reflects this increase in the specified hourly labor rate.

Cost Impact

There are approximately 346 airplanes of the affected design in the worldwide fleet. The FAA estimates that 43 airplanes of U.S. registry would be affected by this proposed AD.

The actions that are currently required by AD 99-18-07, and retained in this proposed AD, take approximately 9 work hours per ceiling panel, and between 18 and 126 work hours per airplane to accomplish, at an average labor rate of $65 per work hour. Required parts cost between $1,366 and $9,575 per airplane. Based on these figures, the cost impact of the currently required actions is estimated to be between $2,536 and $17,765 per airplane.

The proposed installation of new plates in this AD action would take approximately 7 work hours per ceiling panel, and between 18 and 126 work hours per airplane, at an average labor rate of $65 per work hour. Required parts would cost between $1,700 and $12,200 per airplane. Based on these figures, the cost impact of this proposed requirement on U.S. operators is estimated to be between $2,870 and $20,390 per airplane.

The cost impact figures discussed above are based on assumptions that no operator has yet accomplished any of the current or proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11273 (64 FR 47372, August 31, 1999), and by adding a new airworthiness directive (AD), to read as follows:

Boeing: Docket 2003-NM-217-AD. Supersedes AD 99-18-07, Amendment 39-11273.

Applicability: Model 747-400 and -400D series airplanes, as listed in Boeing Alert Service Bulletin 747-25A3142, Revision 3, dated August 14, 2003, certificated in any category.

Compliance: Required as indicated, unless accomplished previously.

To prevent ceiling panels from falling into the passenger cabin area in the event of failure of certain latch assemblies on the ceiling panels, which could result in consequent injury to the flightcrew and passengers, accomplish the following:

Replacement of Plate Assemblies in the Ceiling Panel Strap Assemblies

(a) For airplanes on which ceiling panel strap assemblies were installed in accordance with Boeing Alert Service Bulletin 747-25A3142, dated October 16, 1997; or Revision 1, dated August 6, 1998; or had plate assembly 411U5513-123 installed in production as of the effective date of this AD: Within 24 months after the effective date of this AD, replace any plate assembly having part number (P/N) 411U5513-123, with a new, improved plate assembly having P/N 411U5513-131, in accordance with the Accomplishment Instructions of Boeing Alert Service Bulletin 747-25A3142, Revision 3, dated August 14, 2003.

Installation of Ceiling Panel Strap Assemblies

(b) For airplanes on which ceiling panel strap assemblies were not installed in accordance with Boeing Alert Service Bulletin 747-25A3142, dated October 16, 1997; or Revision 1, dated August 6, 1998: Within 24 months after the effective date of this AD, install strap assemblies on the ceiling panels and rails that support the video monitors in accordance with the Accomplishment Instructions of Boeing Alert Service Bulletin 747-25A3142, Revision 3, dated August 14, 2003.

Actions Done per Previous Issue of Service Bulletin

(c) Accomplishment of the specified actions before the effective date of this AD per Boeing Alert Service Bulletin 747-25A3142, Revision 2, dated March 20, 2003, is considered acceptable for compliance with the applicable requirements of paragraphs (a) and (b) of this AD.

Alternative Methods of Compliance

(d)(1) In accordance with 14 CFR 39.19, the Manager, Seattle Aircraft Certification Office, FAA, is authorized to approve alternative methods of compliance (AMOCs) for this AD.

(2) Alternative methods of compliance, approved previously in accordance with AD 99-18-07, amendment 39-11273, are approved as alternative methods of compliance with the applicable actions of this AD.

Issued in Renton, Washington, on June 16, 2004.
Ali Bahrami,
Acting Manager, Transport Airplane Directorate, Aircraft Certification Service.

[FR Doc. 04-14182 Filed 6-22-04; 8:45 am]

BILLING CODE 4910-13-P